ENVIRONMENTAL PROTECTION AGENCY

[Docket ID Number 2002-0011; FRL-7448-5]

Agency Information Collection Activities; Submission of EPA ICR Number 1156.09 (OMB Control Number 2060-0059) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS for Synthetic Fiber Production Facilities (40 CFR part 60, subpart HHH) (OMB Control Number 2060-0059 and EPA ICR Number 1156.09). The ICR, which is abstracted below, describes the nature of the information collection and its estimated burden and cost.

DATES: Additional comments may be submitted on or before March 10, 2003.

ADDRESSES: Follow the detailed instructions in the SUPPLEMENTARY INFORMATION section.

FOR FURTHER INFORMATION CONTACT: María Malavé, Compliance Assessment and Media Program Division (Mail Code 2223A), Office of Compliance, United States Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On June 20, 2002 (67 FR 41981), EPA sought comments on this ICR pursuant to 5 CFR 1320.8(d). EPA received no comments.

EPA has established a public docket for this ICR under Docket ID Number OECA-2002-0011, which is available for public viewing at the Enforcement and Compliance Docket Information Center (ECDIC), in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the ECDIC Docket is (202) 566-1514. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to docket.oeca@epa.gov, or by mail to: EPA Docket Center, Environmental Protection Agency, Mailcode: 2201T, 1200 Pennsylvania Avenue, NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NSPS for Synthetic Fiber Production Facilities (40 CFR part 60, subpart HHH) (OMB Control Number 2060-0059 and EPA ICR Number 1156.09). This is a request to renew an existing approved collection that is scheduled to expire on January 31, 2003. Under the OMB regulations, the Agency may continue to conduct or sponsor the collection of information while this submission is pending at OMB.

Abstract: The NSPS for Synthetic Fiber Production Facilities, published at 40 CFR part 60, subpart HHH, were proposed on November 23, 1982, and promulgated on April 5, 1984. These standards apply to affected facilities at synthetic fiber production facilities including: each solvent-spun synthetic fiber process that produces more than 500 megagrams of fiber per year and that commenced construction or reconstruction after November 23, 1982. The provisions of this subpart do not apply to any facility that uses the reaction spinning process to produce spandex fiber or the viscose process to produce rayon fiber, nor to facilities that commence modification but not reconstruction after November 23, 1982. Volatile organic compounds (VOCs) are the pollutants regulated under this subpart. This information is being collected to assure compliance with 40 CFR part 60, subpart HHH.

Owners or operators of the affected facilities described must make one-time-only initial notifications and report on the results of the initial performance test. Owners or operators also are required to maintain records of the occurrence and duration of any startup, shutdown, or malfunction in the operation of an affected facility, or any period during which the monitoring system is inoperative. Monitoring requirements specific to synthetic fiber production facilities provide information on VOC emissions. Owners or operators of affected facilities are required to install, calibrate, maintain, and operate a continuous monitoring system for the measurement of makeup solvent and solvent feed. These values shall be used in calculating monthly VOC emissions. Section 60.603(b)(1) provides three options for determining solvent feed.

Each owner or operator calculates VOC emissions every month from the amount of solvent feed and makeup solvent used in each affected facility. These values are used to calculate compliance with the emission limitations on a six-month rolling average basis.

Also required are semiannual reports, and quarterly reports of instances of excess emissions. The owner or operator subject to the provisions of this part shall maintain a file of these measurements, and retain the file for at least two years following the date of such measurements. Responses to this collection of information are mandatory and are being collected to assure compliance with 40 CFR part 60, subpart HHH. All reports are sent to the delegated State or Local authority. In the event that there is no such delegated authority, the reports are sent directly to the EPA Regional Office. These notifications, reports, and records are essential in determining compliance. An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average approximately 29 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Synthetic fiber production facilities.

Estimated Number of Respondents: 25.

Frequency of Response: Initial, quarterly and semiannual.

Estimated Total Annual Hour Burden: 1,838.

Estimated Total Annualized Cost: $293,000 of which $188,000 are O&M annual costs.

There is a decrease of 848 hours in the total estimated burden currently identified in the OMB Inventory of Approved ICR Burdens. This is due to a decrease in the number of sources and the assumption that no new sources will become subject to the standard. The estimate on the number of sources was based on the most recent data on major sources subject to the NSPS program for the corresponding SIC codes subject to this rule available on the EPA AFS database.

Dated: January 29, 2003.
Doreen Sterling,
Acting Director, Collection Strategies Division.

[FR Doc. 03-2937 Filed 2-5-03; 8:45 am]

BILLING CODE 6560-50-P